OFFICE OF MANAGEMENT AND BUDGET

Request for Comments on Category Management Policy 16-1: Improving the Acquisition and Management of Common Information Technology: Software Licensing

AGENCY: Office of Management and Budget.

ACTION: Notice of Public Comment Period.

SUMMARY: The Office of Management and Budget (OMB) is seeking public comment on a draft memorandum titled, “Category Management Policy 16-1: Improving the Acquisition and Management of Common Information Technology: Software Licensing.”

DATES: The 30-day public comment period on the draft memorandum begins on the day it is published in the Federal Register and ends 30 days after date of publication in the Federal Register.

ADDRESSES: Interested parties should provide comments at the following link: https://software.cio.gov. The Office of Management and Budget is located at 725 17th Street NW., Washington, DC 20503.

FOR FURTHER INFORMATION CONTACT: Mr. Paul Oliver, OMB, at 202-395-0372 or OFCIO@omb.eop.gov.

SUPPLEMENTARY INFORMATION: The Office of Management and Budget (OMB) is proposing a new policy to improve the management and acquisition of commonly-purchased enterprise software. The policy advances the Category Management initiative established in the OMB Memorandum dated December 4, 2014, Transforming the Marketplace: Simplifying Federal Procurement to Improve Performance, Drive Innovation, and Increase Savings. The policy also addresses the implementation of the governmentwide software purchasing program in the Federal Information Technology Oversight and Reform Act (FITARA). The draft memorandum establishes policies to reduce redundancy, increase accountability of agency officials, and promote best-in-class software agreements across the Federal Government. Authority for this notice is granted under the Clinger-Cohen Act, 40 U.S.C. Subtitle III.

Tony Scott,
Administrator, Office of the Federal Chief Information Officer.
Anne Rung,
Administrator, Office of Federal Procurement Policy.

[FR Doc. 2015-32059 Filed 12-18-15; 11:15 am]

BILLING CODE P